DEPARTMENT OF JUSTICE

Notice of Lodging of Consent Decree With Big River Zinc Corporation Providing for Civil Penalties and Injunctive Relief Under the Clean Air Act

Notice is hereby given that on April 15, 2009, a proposed Consent Decree with Big River Zinc Corporation (“BRZ”) providing for civil penalties and injunctive Relief under the Clean Air Act in United States v. Big River Zinc Corp., Civil Action No. 3:10-cv-00276-DRH-CJP was lodged with the United States District Court for the Southern District of Illinois.

In this action the United States sought injunctive relief and assessment of civil penalties for violation of the New Source Performance Standards (“NSPS”) of the Clean Air Act, 42 U.S.C. 7411, and the NSPS regulations codified at 40 CFR part 60, at a plant in Sauget, Illinois, which is owned and operated by BRZ. The Decree, which was lodged simultaneously with the filing of the complaint, resolves claims arising out of BRZ's replacement of two roasting units. BRZ has not operated its roasters since early 2006. Under the proposed Decree, BRZ may not restart either of its roasters for the purpose of resuming zinc roasting operations until it installs a scrubber system that is designed to meet applicable control limits with which BRZ must comply after resuming zinc roasting operations. In the event that BRZ does not resume zinc roasting operations within five years of entry of the Consent Decree, it must permanently shut down its zinc roasting operations and surrender all related pollution credits. The proposed Decree will also require BRZ to pay a civil penalty of $250,000.

The Department of Justice will receive comments relating to the proposed Consent Decrees for a period of thirty (30) days from the date of this publication. Comments should be addressed to the Assistant Attorney General, Environment and Natural Resources Division, and either e-mailed to pubcomment-ees.enrd@usdoj.gov or mailed to P.O. Box 7611, U.S. Department of Justice, Washington, DC 20044-7611, should refer to United States v. Big River Zinc Corp., D.J. Ref. 90-5-2-1-08230.

The Decree may be examined at the Office of the United States Attorney for the Southern District of Illinois, Nine Executive Drive, Fairview Heights, Illinois, 62208-1344, and at U.S. EPA Region 5, 77 West Jackson Boulevard, Chicago, Illinois 60604. During the public comment period, the Decree may also be examined on the following Department of Justice Web site, to http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $13 (25 cents per page reproduction cost) payable to the U.S. Treasury or, if by e-mail or fax, forward a check in that amount to the Consent Decree Library at the stated address.

Maureen Katz,
Assistant Chief, Environmental Enforcement Section, Environment and Natural Resources Division.

[FR Doc. 2010-9891 Filed 4-28-10; 8:45 am]

BILLING CODE 4410-15-P